DEPARTMENT OF ENERGY

National Energy Technology Laboratory

Notice of Inventions Available for Licensing

AGENCY: Department of Energy (DOE) National Energy Technology Laboratory (NETL).

ACTION: Notice.

SUMMARY: The United States Department of Energy, National Energy Technology Laboratory hereby announces that the inventions listed below are available for licensing in accordance with 35 U.S.C. 207-209 to achieve expeditious commercialization of results of federally funded research and development. Foreign patents rights have been retained on selected inventions to extend market coverage and may also be available for licensing. A copy of issued patents may be obtained, for a modest fee, from the U.S. Patent and Trademark Office, Washington, DC 20231. Address: Technology Transfer Manager, U.S. Department of Energy, National Energy Technology Laboratory, P.O. Box 880, Morgantown, WV 26507-0880.

FOR FURTHER INFORMATION CONTACT: Diane Newlon, Technology Transfer Manager for U.S. Department of Energy, National Energy Technology Laboratory, P.O. Box 880, Morgantown, WV 26507-0880; Telephone (304) 285-4086; E-mail: newlon@netl.doe.gov

SUPPLEMENTARY INFORMATION: 35 U.S.C. 207 authorizes licensing of Government-owned inventions. Implementing regulations are contained in 37 CFR part 404. 37 CFR 404.7(a)(1) authorizes exclusive licensing of Government-owned inventions under certain circumstances, provided that notice of the invention's availability for licensing has been announced in the Federal Register.

Issued Patents

Number and Title

6,267,849 Method for the Photocatalytic Conversion of Gas Hydrates

6,058,709 Dynamically Balanced Fuel Nozzle and Method of Operation

6,059,560 Periodic Equivalence Ratio Modulation Method and Apparatus for Controlling Combustion Instability

6,056,125 Cross Flow Cyclonic Flotation column for Coal and Minerals Beneficiation

6,056,796 Rigid Porous Filter

6,033,794 Multi-Stage Fuel Cell System Method and Apparatus

5,948,722 Method for Producing Iron-Based Catalysts

5,895,508 Down-Flow Moving-Bed Gasifier with Catalyst Recycle

5,827,903 Separation of Catalyst from Fischer-Tropsch Slurry

5,809,769 Control of Oscillation Attenuation Via the Control of Fuel-Supply Line Dynamics

5,798,088 Method for Producing Elemental Sulfur from Sulfur-Containing Gasses

5,791,889 Combustor Oscillating Pressure Stabilization and Method

5,728,953 Cable Load Sensing Device

5,721,186 Method for Producing Catalysts from Coal

5,720,858 Method for the Photocatalytic Conversion of Methane

5,706,645 Removal of Oxides of Nitrogen from Gases in Multi-Stage Coal Combustion

5,693,588 Reduction of Spalling in Mixed Metal Oxide Desulfurization Sorbents by Addition of a Large Promoter Metal Oxide

5,456,066 Fuel Supply System and Method for Coal-Fired Prime Mover

5,449,568 Indirect-Fired Gas Turbine Bottomed with Fuel Cell

5,413,878 An Improved System and Method for Networking Electrochemical Devices

5,369,214 Method for Selective Dehalogenation of Halogenated Polyaromatic Compounds

5,348,921 Method for Reducing Sulfate Formation During Regeneration of Hot-Gas Desulfurization Sorbents

5,333,044 Fluorescent Image Tracking Velocimeter

5,325,797 Staged Fluidized-Bed Combustion and Filter System

5,214,015 Synthesis of Iron Based Hydrocracking Catalysts

5,198,002 Gas Stream Clean-Up Filter and Method for Forming Same

5,170,670 Three Axis Velocity Probe System

5,167,676 Apparatus and Method for Removing Particulate Deposits from High Temperature Filters

5,144,251 Three-Axis Particle Impact Probe

5,139,991 Oxyhydrochlorination Catalyst

5,139,958 Method and Device for the Determination of Low Concentrations of Oxygen in Carbonaceous Materials

5,130,097 Apparatus for Hot-Gas Desulfurization of Fuel Gases

5,104,520 Apparatus and Method for Separating Constituents

5,061,363 Method for Co-Processing Waste Rubber and Carbonaceous Material

5,022,892 Fine Coal Cleaning Via the Micro-Mag Process

5,020,457 Destruction of Acid Gas Emissions

4,955,942 In-Bed Tube Bank for a Fluidized-Bed Combustor

4,939,376 Light Collection Device for Flame Emission Detectors

4,867,868 Selective Flotation of Inorganic Sulfides from Coal

4,775,387 Sulfur Removal and Comminution of Carbonaceous Material

4,769,504 Process for Converting Light Alkanes to Higher Hydrocarbons

4,769,045 Method for the Desulfurization of Hot Product Gases from Coal Gasifier

4,696,680 Method and Apparatus for the Selective Separation of Gaseous Coal Gasification Products by Pressure Swing Adsorption

4,695,372 Conditioning of Carbonaceous Material Prior to Physical Beneficiation

4,667,097 Compensated Vibrating Optical Fiber Pressure Measuring Device

4,587,113 Removal of Sulfur and Nitrogen Containing Pollutants from Discharge Gases

4,526,272 Laterally Bendable Belt Conveyor

4,523,465 Wireless Remote Liquid Level Detector and Indicator for Well Testing

4,475,884 Reversed Flow Fluidized-Bed Combustion Apparatus

4,466,360 Loop-Bed Combustion Apparatus

4,465,135 Fire Flood Method for Recovering Petroleum from Oil Reservoirs of Low Permeability and Temperature

4,451,826 Single Transmission Line Data Acquisition System

4,447,297 Combined Fluidized Bed Retort and Combustor

Patent Applications Filed

Flashback Detection Sensor for Lean PreMix Fuel Nozzles

Real-Time Combustion Controls and Diagnostics Sensors

Issued: December 18, 2001.
Rita A. Bajura,
Director, NETL.

[FR Doc. 02-211 Filed 1-3-02; 8:45 am]

BILLING CODE 6450-01-P